EXPORT-IMPORT BANK OF THE U. S.

Agency Information Collection Activities: Comment Request

AGENCY: Export-Import Bank of the United States (Ex-Im Bank).

ACTION: Notice and Request for Comments.

SUMMARY: The Export-Import Bank, as a part of its continuing effort to reduce paperwork and respondent burden, invites the general public and other Federal agencies to comment on the proposed information collection as required by the Paperwork Reduction Act of 1995.

SUPPLEMENTARY INFORMATION: This notice is soliciting comments from the public concerning the proposed collection of information to: (1) Evaluate whether the proposed collection is necessary for the paper performance of the functions of the agency, including whether the information will have practical utility; (2) evaluate the accuracy of the agency's estimate of the burden of the proposed collection of information; (3) enhance the quality, utility, and clarity of the information to be collected; and (4) minimize the burden of collection of information on those who are to respond, including through the use of appropriate automated collection techniques or other forms of information technology, e.g. permitting electronic submission of responses.

DATES: Comments due on or before November 13, 2007.

ADDRESSES: Direct all written comments and requests for additional information to Mimi Tesser, Export-Import Bank of the U.S., 811 Vermont Avenue, NW., Washington, DC 20571, Mimi.Tesser@exim.gov, (202) 565-3778, or (800) 565-3946, extension 3778.

OMB Number: 3048-0012.

Titles and Form Numbers: Export-Import Bank of the U.S. Foreign Content Report, EIB 01-02 and Export-Import Bank of the U.S. Cause Report, EIB 01-02-A.

Type of Review: Regular.

Need and Use: The information requested creates less of a burden on our exporters who previously certified foreign content for each shipment of goods. With the use of the forms, Ex-Im Bank documents the amount of foreign content in transactions through up-front reporting and back-end verification.

Affected Public: Business and other for-profit/not-for-profit institutions.

Respondents: Entities involved in the export of U.S. good and services, including exporters, banks and other non-financial lending institutions that act as facilitators.

Estimated Annual Respondents: 600.

Estimated Time per Respondent: 2 hours.

Estimated Annual Burden: 1,200 hours.

Frequency of Response: On occasion.

Dated: September 6, 2007.
Solomon Bush,
Agency Clearance Officer.

[FR Doc. 07-4489 Filed 9-12-07; 8:45 am]

BILLING CODE 6690-01-M